DEPARTMENT OF THE INTERIOR

Bureau of Land Management

[LLCON03000-L12200000-PA0000]

Notice of Proposed Supplementary Rules for Public Lands in Colorado: Bangs Canyon Special Recreation Management Area

AGENCY: Bureau of Land Management, Interior.

ACTION: Proposed supplementary rules.

SUMMARY: The Bureau of Land Management's (BLM) Grand Junction Field Office is proposing supplementary rules to regulate conduct on public lands within Bangs Canyon Special Recreation Management Area (BCSRMA). These supplementary rules are needed to implement decisions found in the Bangs Canyon Management Plan Environmental Assessment (EA) and Resource Management Plan (RMP) revision that protects public lands, resources, and public health and provides public safety.

DATES: Please send comments to the following address by September 21, 2009. The BLM is not obligated to consider comments received or postmarked after this date.

ADDRESSES: Please mail comments to Chris Ham, Bangs Canyon Special Recreation Management Area, 2815 H Road, Grand Junction, Colorado 81506; or e-mail comments to gjfo_webmail@blm.gov, Attn: “Bangs Canyon.”

FOR FURTHER INFORMATION CONTACT: Eric Boik, BLM Field Staff Law Enforcement Ranger, (970) 244-3070, e-mail: Eric_Boik@blm.gov or Chris Ham, Recreation Program Lead, (970) 244-3031, e-mail: Chris_Ham@blm.gov.

SUPPLEMENTARY INFORMATION:

I. Public Comment Procedures

Written comments on the proposed supplementary rules should be specific, be confined to issues pertinent to the proposed supplementary rules, and explain the reason for any recommended change. Where possible, comments should reference the specific section or paragraph of the proposal which the comment is addressing. The BLM is not obligated to consider or include in the Administrative Record for the supplementary rules comments that the BLM receives after the close of the comment period (See DATES), unless they are postmarked or electronically dated before the deadline, or comments delivered to an address other than the address listed above (See ADDRESSES).

Comments—including names, street addresses, and other contact information of respondents—will be available for public review at 2815 H Road, Grand Junction, Colorado 81506, during regular business hours (7:30 a.m. to 4:30 p.m., Monday through Friday, except Federal holidays). Before including your address, phone number, e-mail address, or other personal identifying information in your comment, you should be aware that your entire comment—including your personal identifying information—may be made publicly available at any time. While you can ask us in your comment to withhold your personal identifying information from public review, we cannot guarantee that we will be able to do so.

II. Background

Recreation resource management decisions for the Grand Junction Field Office (GJFO) were detailed in the Grand Junction Resource Area Management Plan (RMP) in 1987. The Grand Valley, including the Bangs Canyon area, was designated as an Intensive Recreation Management Area (IRMA) in the RMP. The plan recommended the need for additional planning for the IRMA due to its distinguishing characteristics and significance to recreation. The Bangs Canyon Management Plan (BCMP) was approved in 1999 and fulfills the obligation of the GJFO to complete a site-specific plan for this area. It establishes management objectives and identifies management strategies to achieve those objectives. The BCMP (an integrated, issue-driven recreation plan) amends the Grand Junction Resource Area Management Plan, implementation Environmental Assessment and its amendments. It is consistent with direction for recreation actions outlined in the Recreation Guidelines to meet Public Land Health Standards on BLM Managed Lands in Colorado (2000), as well as the BLM Off-Highway Vehicle Strategy and the BLM priorities for Recreation and Visitor Services. These three documents may be viewed at http://www.blm.gov.

III. Discussion of the Proposed Supplementary Rules

The proposed supplementary rules apply to the public lands within the Bangs Canyon Management Area. The Bangs Canyon Special Recreation Management Area (BCSRMA) Plan includes specific management actions that restrict certain activities and define allowable uses which were identified and analyzed in the BCSRMA plan EA. The proposed supplementary rules implement these management actions within the BCSRMA. Many of the proposed supplementary rules apply to the entire area, but some apply to specific areas within the BCSRMA. This approach allows for flexibility in management actions based on the results of resource and visitor monitoring. The proposed supplementary rules are written to allow for this management flexibility.

IV. Procedural Matters

Executive Order 12866, Regulatory Planning and Review

These supplementary rules do not comprise a significant regulatory action and are not subject to review by the Office of Management and Budget under Executive Order 12866. These supplementary rules will not have an annual effect of $100 million or more on the economy. They will not adversely affect in a material way the economy, productivity, competition, jobs, the environment, public health or safety, or State, local, or tribal governments or communities. These supplementary rules will not create a serious inconsistency or otherwise interfere with an action taken or planned by another agency. The supplementary rules do not materially alter the budgetary effects of entitlements, grants, user fees, or loan programs or the rights or obligations of their recipients; nor do they raise novel legal or policy issues. These supplementary rules merely establish rules of conduct for public use of a limited area of public lands.

Clarity of the Regulations

Executive Order 12866 requires each agency to write regulations that are simple and easy to understand. The BLM invites your comments on how to make these supplementary rules easier to understand, including answers to questions such as the following:

1. Are the requirements in the supplementary rules clearly stated?

2. Do the supplementary rules contain technical language or jargon that interferes with their clarity?

3. Does the format of the supplementary rules (grouping and order of sections, use of headings, paragraphing, etc.) aid or reduce clarity?

4. Is the description of the supplementary rules in the SUPPLEMENTARY INFORMATION section of this preamble helpful in understanding the supplementary rules? How could this description be more helpful in making the supplementary rules easier to understand?

Please send any comments you have on the clarity of the rule to the address specified in the ADDRESSES section.

National Environmental Policy Act

The Management Plan and Final Environmental Assessment for the BCSRMA was completed in 1999 and the Record of Decision was signed in 1999. The supplementary rules are consistent with and necessary to carry out the direction of the RMP and the Bangs Canyon Management Plan. They establish rules of conduct for public use within BCSRMA to protect public health and safety and improve the protection of the resources.

Regulatory Flexibility Act

Congress enacted the Regulatory Flexibility Act(RFA) of 1980, as amended (5 U.S.C. 601-612) to ensure that government regulations do not unnecessarily or disproportionately burden small entities. The RFA requires a regulatory flexibility analysis if a rule would have a significant economic impact, either detrimental or beneficial, on a substantial number of small entities. These supplementary rules merely establish rules of conduct for public use of a limited area of public lands. Therefore, the BLM has determined under the RFA that the supplementary rules would not have a significant economic impact on a substantial number of small entities.

Small Business Regulatory Enforcement Fairness Act (SBREFA)

These supplementary rules are not considered a “major rule” as defined under 5 U.S.C. 804(2). The supplementary rules merely establish rules of conduct for public use of a limited area of public lands and do not affect commercial or business activities of any kind.

Unfunded Mandates Reform Act

These supplementary rules do not impose an unfunded mandate on State, local, or tribal governments in the aggregate, or the private sector of more than $100 million per year; nor do they have a significant or unique effect on small governments. The rules have no effect on governmental or tribal entities and would impose no requirements on any of these entities. The supplementary rules merely establish rules of conduct for public use of a limited area of public lands and do not affect tribal, commercial, or business activities of any kind. Therefore, the BLM is not required to prepare a statement containing the information required by the Unfunded Mandates Reform Act (2 U.S.C. 1531 et seq.).

Executive Order 12630, Governmental Actions and Interference With Constitutionally Protected Property Rights (Takings)

These supplementary rules do not have significant takings implications, nor are they capable of interfering with Constitutionally-protected property rights. The supplementary rules merely establish rules of conduct for public use of a limited area of public lands and do not affect anyone's property rights. Therefore, the Department of the Interior has determined that these rules will not cause a taking of private property or require preparation of a takings assessment under this Executive Order.

Executive Order 13132, Federalism

These supplementary rules will not have a substantial direct effect on the states, the relationship between the national government and the states, nor the distribution of power and responsibilities among the various levels of government. These supplementary rules do not come into conflict with any State law or regulation. Therefore, in accordance with Executive Order 13132, the BLM has determined that these supplementary rules do not have sufficient Federalism implications to warrant preparation of a Federalism Assessment.

Executive Order 12988, Civil Justice Reform

Under Executive Order 12988, these rules will not unduly burden the judicial system and they meet the requirements of sections 3(a) and 3(b)(2) of the Order.

Executive Order 13175, Consultation and Coordination With Indian Tribal Governments

In accordance with Executive Order 13175, the BLM has found that these supplementary rules do not include policies that have tribal implications. The supplementary rules do not affect land held for the benefit, nor impede the rights, of Indians or Alaska Natives.

Paperwork Reduction Act

These proposed supplementary rules do not directly provide for any information collection that the Office of Management and Budget must approve under the Paperwork Reduction Act, 44 U.S.C. 3501 et seq. Any information collection that may result from Federal criminal investigations or prosecutions conducted under these proposed supplementary rules are exempt from the provisions of the Paperwork Reduction Act of 1995, 44 U.S.C. 3518(c)(1).

Author

The principal author of these proposed supplementary rules is Chris Ham, Recreation Program Lead, Bangs Canyon Special Recreation Management Area, 2815 H Road Grand Junction, Colorado 81506.

For the reasons stated in the preamble and under the authorities for supplementary rules found under 43 U.S.C. 1740 and 43 CFR 8365.1-6, the Colorado State Director, Bureau of Land Management, proposes supplementary rules for public lands managed by the BLM in Colorado, to read as follows:

Supplementary Rules for Bangs Canyon Special Recreation Management Area

1. These supplementary rules apply, except as specifically exempted, to activities within the Bangs Canyon Special Recreation Management Area (BCSRMA), which is comprised of public lands administered by the Bureau of Land Management near Grand Junction, Colorado.

2. These supplementary rules are in effect on a year-round basis and will remain in effect until modified by the authorized officer.

3. You must not start or maintain a fire in sites or areas not designated as open for such use by a BLM sign or map.

4. You must not start or maintain a fire outside of a metal fire ring at sites or areas where fire rings are provided by the BLM. Mechanical stoves and other appliances that are fueled by gas, and equipped with a valve that allows the operator to control the flame, are among the devices that fulfill the requirement for a metal fire ring.

5. You must not cut, collect or use live, dead, or down wood except in areas designated open to such use by a BLM sign or map.

6. You must not camp in sites or areas not designated as open to camping by a BLM sign or map.

7. You must dispose of solid human waste as indicated by a BLM sign or map.

8. You must not use roads and/or trails by motorized or mechanized vehicle or equestrian or pedestrian travel, except where designated as open to such use by a BLM sign or map.

9. You must not operate a motorized or mechanized vehicle in violation of trail width and/or vehicle type restrictions as indicated by a BLM sign or map.

10. You must not operate an off-highway vehicle (OHV) that produces sound exceeding 96 decibels.

11. You must not discharge a firearm of any kind, including those used for target shooting or paintball where indicated by a BLM sign or map. Licensed hunters in legitimate pursuit of game during the proper season with appropriate firearms, as defined by the Colorado Division of Wildlife, are exempt from this rule.

12. You must not enter an area that is designated closed by a BLM sign or map.

13. You must remove and properly dispose of canine solid waste when and where indicated by a BLM sign or map.

14. You must not bring any dog into the BCSRMA that is not controlled by visual, audible, or physical means.

15. You must not park in areas not designated for parking by a BLM sign or map.

16. You must not burn material, including wood, that contains nails, glass or any metal.

17. The hours of operation are sunrise to sunset in any area that is for day-use only as indicated by a BLM sign or map. You must not enter or remain in such an area after sunset or before sunrise.

Exemptions: The following persons are exempt from these supplementary rules:

A. Federal, State, local and/or military personnel in the scope of their official duties;

B. Members of an organized rescue or fire-fighting force in performance of their official duties; and

C. Persons, agencies, municipalities, or companies holding an existing special-use permit inside the BCSRMA and operating within the scope of their permit.

Penalties: Any person who violates any of these supplementary rules may be tried before a United States Magistrate and fined no more than $1,000 or imprisoned for no more than 12 months, or both. 43 U.S.C. 1733(a); 43 CFR 8360.0-7. Such violations may also be subject to the enhanced fines provided for by 18 U.S.C. 3571. In accordance with 43 CFR 8365.1-7, State or local officials may also impose penalties for violations of Colorado law.

Dave Hunsaker,
Associate State Director.

[FR Doc. E9-17591 Filed 7-22-09; 8:45 am]

BILLING CODE 4310-JB-P